DEPARTMENT OF ENERGY

Environmental Management Site-Specific Advisory Board, Oak Ridge; Meeting; Correction

AGENCY: Office of Environmental Management, Department of Energy.

ACTION: Notice of open meeting: correction.

SUMMARY: On September 17, 2019, the Department of Energy published a notice of open meeting announcing a meeting on October 9, 2019, of the Environmental Management Site-Specific Advisory Board, Oak Ridge. This document makes a correction to that notice.

FOR FURTHER INFORMATION CONTACT: Melyssa P. Noe, Alternate Deputy Designated Federal Officer, U.S. Department of Energy, Oak Ridge Office of Environmental Management (OREM), P.O. Box 2001, EM-942, Oak Ridge, TN 37831. Phone (865) 241-3315; Fax (865) 241-6932; Email: Melyssa.Noe@orem.doe.gov. Or visit the website at https://energy.gov/orem/services/community-engagement/oak-ridge-site-specific-advisory-board.

SUPPLEMENTARY INFORMATION:

Correction

In the Federal Register of September 17, 2019, in FR Doc. 2019-20114, on page 48921, please make the following correction:

In that notice under Tentative Agenda, third column, first paragraph, the presentation topic has been changed. The original presentation topic was Processing of Uranium 233 Materials. The new presentation topic is Groundwater Update.

Signed in Washington, DC, on September 18, 2019.
LaTanya Butler,
Deputy Committee Management Officer.

[FR Doc. 2019-20470 Filed 9-20-19; 8:45 am]

BILLING CODE 6450-01-P